SECURITIES AND EXCHANGE COMMISSION

Sunshine Act Meeting

Notice is hereby given, pursuant to the provisions of the Government in the Sunshine Act, Pub. L. 94-409, that the Securities and Exchange Commission will hold the following meeting during the week of January 30, 2006:

An open meeting will be held on Monday, January 30, 2006 at 10 a.m. in Room L-002, the Auditorium.

Commissioner Atkins as duty officer determined that no earlier notice thereof was possible.

The subject matter of the open meeting scheduled for Monday, January 30, 2006 will be:

The Commission will hear oral argument on an appeal by Vladlen “Larry” Vindman and the Division of Enforcement from the decision of an administrativelaw judge. The law judge found that Vindman engaged in a scheme to inflate artificially the demand for and price of the stock of Marx Toys & Entertainment Corp. (“Marx”), a penny stock, in violation of Section 17(a) of the Securities Act of 1933, Section 10(b) of the Securities Exchange Act of 1934, and Exchange Act Rule 10b-5. The law judge imposed a cease-and-desist order on Vindman and barred him from participating in an offering of penny stock. She also imposed a third-tier civil money penalty in the amount of $20,000. In imposing the penalty, the law judge found that the $120,000 penalty requested by the Division, the maximum third-tier penalty allowed by statute for each act or omission found, was consistent with Commission precedent, but she reduced the penalty to $20,000, which she found took into account both the need for deterrence and record evidence bearing on Vindman's ability to pay. Vindman appeals from the law judge's findings of violation and the sanctions she imposed. The sole issue pressed in the Division's appeal is the amount of the civil penalty imposed.

Among the issues likely to be argued are:

1. Whether Vindman violated antifraud provisions by manipulating the market in Marx stock.

2. If violations are found, what, if any, sanctions are warranted.

3. If a civil penalty is warranted, whether and what amount Vindman is able to pay.

At times, changes in Commission priorities require alterations in the scheduling of meeting items.

For further information and to ascertain what, if any, matters have been added, deleted or postponed, please contact:

The Office of the Secretary at (202) 551-5400.

Dated: January 24, 2006.
Nancy M. Morris,
Secretary.

[FR Doc. 06-835 Filed 1-25-06; 11:34 am]

BILLING CODE 8010-01-P